NUCLEAR REGULATORY COMMISSION

[Docket No. 50-289; NRC-2026-0397]

Constellation Energy Generation, LLC; Christopher M. Crane Clean Energy Center; Applications for Amendments to Renewed Facility License Involving Proposed No Significant Hazards Consideration Determination and Containing Safeguards Information and Order Imposing Procedures for Access to Safeguards Information

AGENCY: Nuclear Regulatory Commission.

ACTION: License amendment request (LAR); notice of opportunity to comment, request a hearing, and petition for leave to intervene; order imposing procedures.

SUMMARY: The U.S. Nuclear Regulatory Commission (NRC, the Commission) received and is considering issuance of three amendments to Renewed Facility License (RFL) No. DPR-50 for the Christopher M. Crane Clean Energy Center (CCEC), which were requested by Constellation Energy Generation, LLC (CEG) to support the potential reauthorization of power operations at the CCEC. For each amendment request, the NRC proposes to determine that they involve no significant hazards consideration (NSHC). Because potential parties may deem it necessary to obtain access to safeguards information (SGI) to meet Commission requirements for intervention, the NRC is issuing an order imposing procedures to obtain access to SGI for contention preparation by persons who file a hearing request or petition for leave to intervene.

DATES: Comments must be filed by March 26, 2026. A request for a hearing or petitions for leave to intervene must be filed by April 27, 2026. Any potential party as defined in section 2.4 of title 10 of the Code of Federal Regulations (10 CFR) who believes access to SGI is necessary to respond to this notice must request document access by March 6, 2026.

ADDRESSES: You may submit comments by any of the following methods; however, the NRC encourages electronic comment submission through the Federal rulemaking website.

• Federal rulemaking website: Go to https://www.regulations.gov and search for Docket ID NRC-2026-0397. Address questions about Docket IDs in Regulations.gov to Bridget Curran; telephone: 301-415-1003; email: Bridget.Curran@nrc.gov. For technical questions, contact the individual listed in the For Further Information Contact section of this document.

• Mail comments to: Office of Administration, Mail Stop: TWFN-5-A85, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Brent Ballard, Office of Nuclear Reactor Regulation, U.S. Nuclear Regulatory Commission, Washington, DC 20555-0001; telephone: 301-415-0680; email: Brent.Ballard@nrc.gov.

SUPPLEMENTARY INFORMATION:

I. Obtaining Information and Submitting Comments

A. Obtaining Information

Please refer to Docket ID NRC-2026-0397 when contacting the NRC about the availability of information for this action. You may obtain publicly available information related to this action by any of the following methods:

• Federal Rulemaking website: Go to https://www.regulations.gov and search for Docket ID NRC-2026-0397.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2026-0397 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Introduction

A. Background

CCEC, formerly Three Mile Island Nuclear Station, Unit 1 (TMI-1),¹ consists of a single pressurized-water reactor located in Dauphin County, Pennsylvania, on Three Mile Island in the Susquehanna River. Originally licensed for operation on April 19, 1974, the NRC issued a renewed facility operating license for TMI-1 on October 22, 2009, with the renewed license term expiring on April 19, 2034.

¹ On May 13, 2025, the NRC issued Amendment No. 306 (ML25100A006), revising RFL No. DPR-50 and its appendix, the Permanently Defueled Technical Specifications, to reflect a change in the name of the facility from “Three Mile Island Nuclear Station, Unit 1,” to “Christopher M. Crane Clean Energy Center.”

On June 20, 2017, and September 26, 2019, Exelon Generation Company, LLC, the licensee who operated the facility prior to transfer of the license to CEG, submitted certifications that it would permanently cease operations of TMI-1 and had permanently removed fuel from the reactor vessel, respectively, in accordance with 10 CFR 50.82(a)(1). Upon the NRC's docketing of these certifications, the TMI-1 license no longer authorized operation of the reactor or emplacement or retention of fuel into the reactor vessel, as provided by 10 CFR 50.82(a)(2).

CEG is seeking to return CCEC to power operations and has submitted several requests for NRC approval to support allowing the resumption of power operations through April 19, 2034, the previous expiration date of the plant's license. These requests include three LARs, which are the subject of this notice, and an exemption request. Consistent with the Atomic Energy Act of 1954, as amended (the Act), and the NRC's regulations, the NRC is not publishing a notice of opportunity for hearing on the exemption request.

B. License Amendment Requests

The NRC is considering issuance of amendments to RFL No. DPR-50 for the CCEC that were requested by CEG, to support reauthorization of power operations at the CCEC. These LARs are the subject of this notice and are listed in tabular form in Section III of this document.

Before any issuance of the proposed license amendments, the NRC will need to make the findings required by the Act and the NRC's regulations. Pursuant to Section 189a.(2) of the Act, the NRC is publishing this notice. The Act requires the Commission to publish notice of any amendments issued or proposed to be issued, and grants the Commission the authority to issue and make immediately effective any amendment to an operating license upon a determination by the Commission that such amendment involves no significant hazards consideration, notwithstanding the pendency before the Commission of a request for a hearing from any person.

The scope of this notice is limited to comments, requests for hearing, and petitions for leave to intervene related to the three LARs listed in tabular form in Section III of this document.

The NRC staff notes that, although the three LARs state that a categorical exclusion applies, the NRC staff is not relying on a categorical exclusion for these actions. The NRC staff will complete an environmental review of the potential environmental impacts of the proposed Federal actions related to reauthorizing power operations at the CCEC, which include the three LARs, and will document its findings in accordance with the National Environmental Policy Act of 1969, as amended (NEPA), and the NRC's regulations in 10 CFR part 51, “Environmental Protection Regulations for Domestic Licensing and Related Regulatory Functions.” The NRC staff's environmental review will also document the NRC's interagency consultation requirements in accordance with Section 106 of the National Historic Preservation Act and Section 7 of the Endangered Species Act. The NRC staff will prepare an environmental assessment that will be used to determine whether an environmental impact statement is necessary or whether a finding of no significant impact is warranted to satisfy the NRC's NEPA obligations. A draft environmental assessment and draft finding of no significant impact, provided that a determination of no significant impact is reached, will be issued for public comment. The U.S. Department of Energy, Office of Energy Dominance Financing will serve as a cooperating agency on the NRC's environmental review.

III. Notice of Consideration of Issuance of Amendments to Renewed Facility License, Proposed No Significant Hazards Consideration Determination, and Opportunity for a Hearing

The Commission has made a proposed determination that the three LARs listed in tabular form in this notice involve no significant hazards consideration. Under the Commission's regulations in 10 CFR 50.92, this means that operation of the facility in accordance with the proposed amendments would not (1) involve a significant increase in the probability or consequences of an accident previously evaluated, or (2) create the possibility of a new or different kind of accident from any accident previously evaluated, or (3) involve a significant reduction in a margin of safety. The basis for this proposed determination for each amendment request is included in the amendment requests as referenced in the table in this notice.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves no significant hazards consideration. In addition, the Commission may issue any of these amendments prior to the expiration of the 30-day comment period if circumstances change during the 30-day comment period such that failure to act in a timely way would result, for example, in prevention of resumption of operation of the facility. If the Commission takes action on any of these amendments prior to the expiration of either the comment period or the notice period, it will publish a notice of issuance in the Federal Register. If the Commission makes a final no significant hazards consideration determination for any of these amendments, any hearing will take place after issuance. The Commission expects that the need to take this action on any amendment request before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the LAR involves no significant hazards consideration, the Commission may issue the amendment and make it immediately effective, notwithstanding the request for a hearing. Any hearing would take place after issuance of the amendment. If the final determination is that the LAR involves a significant hazards consideration, then any hearing held would take place before the issuance of the amendment unless the Commission finds an imminent danger to the health or safety of the public, in which case it will issue an appropriate order or rule under 10 CFR part 2.

A State, local governmental body, Federally recognized Indian Tribe, or designated agency thereof, may submit a petition to the Commission to participate as a party under 10 CFR 2.309(h) no later than 60 days from the date of publication of this notice. Alternatively, a State, local governmental body, Federally recognized Indian Tribe, or designated agency thereof, may participate as a non-party under 10 CFR 2.315(c).

For information about filing a petition and about participation by a person not a party under 10 CFR 2.315, see ADAMS Accession No. ML20340A053 (https://adamswebsearch2.nrc.gov/webSearch2/main.jsp?AccessionNumber=ML20340A053) and the NRC's public website (https://www.nrc.gov/about-nrc/regulatory/adjudicatory/hearing.html#participate).

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056), and on the NRC's public website (https://www.nrc.gov/site-help/e-submittals.html).

To comply with the procedural requirements of E-Filing, at least 10 days prior to the filing deadline, the participant should contact the Office of the Secretary by email at Hearing.Docket@nrc.gov, or by telephone at 301-415-1677, to: (1) request a digital identification (ID) certificate which allows the participant (or their counsel or representative) to digitally sign submissions and access the E-Filing system for any proceeding in which it is participating; and (2) advise the Secretary that the participant will be submitting a petition or other adjudicatory document (even in instances in which the participant, or their counsel or representative, already holds an NRC-issued digital ID certificate). Based upon this information, the Secretary will establish an electronic docket for the proceeding if the Secretary has not already established an electronic docket.

Information about applying for a digital ID certificate is available on the NRC's public website (https://www.nrc.gov/site-help/e-submittals/getting-started.html). After a digital ID certificate is obtained and a docket is created, the participant must submit adjudicatory documents in the Portable Document Format. Guidance on submissions is available on the NRC's public website (https://www.nrc.gov/site-help/electronic-sub-ref-mat.html). A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed in order to obtain access to the documents via the E-Filing system.

A person filing electronically using the NRC's adjudicatory E-Filing system may seek assistance by contacting the NRC's Electronic Filing Help Desk through the “Contact Us” link located on the NRC's public website (https://www.nrc.gov/site-help/e-submittals.html), by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available on the NRC's public website (https://adams.nrc.gov/ehd), unless otherwise excluded pursuant to an order of the presiding officer. If you do not have an NRC-issued digital ID certificate as previously described, click “cancel” when the link requests certificates and you will be automatically directed to the NRC's electronic hearing docket where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the topic, date(s), ADAMS accession number(s), and location in the application of CEG's proposed NSHC determination for each of the three LARs that support the proposed resumption of power operation at the CCEC. For further details with respect to these license amendment applications, see the applications, publicly available portions of which are available for public inspection in ADAMS. For additional direction on accessing information related to these documents, see the “Obtaining Information and Submitting Comments” section of this document.

Application to Revise Renewed Facility License and Permanently Defueled Technical Specifications to Support Resumption of Power Operations
Application Date | July 31, 2025.
ADAMS Accession No | ML25212A076.
Location in Application of NSHC | Pages 46-49 of Attachment 1.
Brief Description of Amendment | The proposed amendment would revise the renewed facility license and Appendix A, Permanently Defueled Technical Specifications, to support resumption of power operations at the CCEC.
Proposed Determination | NSHC.
Name of Attorney for Licensee, Mailing Address | Jason Zorn, Associate General Counsel, Constellation Energy Generation, LLC, 101 Constitution Ave. NW, Suite 400 East, Washington, DC 20001.
NRC Project Manager, Telephone Number | Brent Ballard, 301-415-0680.
Proposed Changes to Christopher M. Crane Clean Energy Center Site Emergency Plan and Emergency Action Level Scheme for an Operating Facility
Application Date | October 31, 2025.
ADAMS Accession No | ML25304A097 (package).
Location in Application of NSHC | Pages 69-71 of Attachment 2 (ML25304A098).
Brief Description of Amendment | The proposed amendment would revise the CCEC Radiological Emergency Preparedness Plan and Emergency Action Level scheme to support resumption of power operations at the CCEC.
Proposed Determination | NSHC.
Name of Attorney for Licensee, Mailing Address | Jason Zorn, Associate General Counsel, Constellation Energy Generation, LLC, 101 Constitution Ave. NW, Suite 400 East, Washington, DC 20001.
NRC Project Manager, Telephone Number | Brent Ballard, 301-415-0680.
Proposed Changes to Christopher M. Crane Clean Energy Center Security Plan, Training and Qualification Plan, and Safeguards Contingency Plan, Revision 0
Application Date | October 24, 2025.
Supplement Date | January 21, 2026.
ADAMS Accession Nos | ML25300A118; ML26021A039.
Location in Application of NSHC | Pages 3-4 of ML26021A039.
Brief Description of Amendment | The proposed amendment would revise the CCEC Physical Security Plan to support resumption of power operations at the CCEC.
Proposed Determination | NSHC.
Name of Attorney for Licensee, Mailing Address | Jason Zorn, Associate General Counsel, Constellation Energy Generation, LLC, 101 Constitution Ave. NW, Suite 400 East, Washington, DC 20001.
NRC Project Manager, Telephone Number | Brent Ballard, 301-415-0680.

Order Imposing Procedures for Access to Safeguards Information for Contention Preparation

A. This Order contains instructions regarding how potential parties to this proceeding may request access to documents containing SGI. Requirements for access to SGI are primarily set forth in 10 CFR parts 2 and 73. Nothing in this Order is intended to conflict with the SGI regulations.

B. Within 10 days after publication of this notice of opportunity to request a hearing and petition for leave to intervene, any potential party who believes access to SGI is necessary to respond to this notice may request such access. A “potential party” is any person who intends to participate as a party by demonstrating standing and filing an admissible contention under 10 CFR 2.309. Requests for access to SGI submitted later than 10 days after publication will not be considered absent a showing of good cause for the late filing, addressing why the request could not have been filed earlier.

C. The requestor shall submit a letter requesting permission to access SGI to the Office of the Secretary, U.S. Nuclear Regulatory Commission, Washington, DC 20555-0001, Attention: Rulemakings and Adjudications Staff, and provide a copy to the Deputy General Counsel for Licensing, Hearings, and Enforcement, Office of the General Counsel, U.S. Nuclear Regulatory Commission, Washington, DC 20555-0001. The expedited delivery or courier mailing address for both offices is: U.S. Nuclear Regulatory Commission, 11555 Rockville Pike, Rockville, Maryland 20852. The email addresses for the Office of the Secretary and the Office of the General Counsel are Hearing.Docket@nrc.gov and RidsOgcMailCenter.Resource@nrc.gov, respectively.²

² While a request for hearing or petition to intervene in this proceeding must comply with the filing requirements of the NRC's “E-Filing Rule,” the initial request to access SGI under these procedures should be submitted as described in this paragraph.

The request must include the following information:

(1) A description of the licensing action with a citation to this Federal Register notice;

(2) The name and address of the potential party and a description of the potential party's particularized interest that could be harmed by the action identified in C.(1);

(3) The identity of each individual who would have access to SGI if the request is granted, including the identity of any expert, consultant, or assistant who will aid the requestor in evaluating the SGI. In addition, the request must contain the following information:

(a) A statement that explains each individual's “need to know” the SGI, as required by 10 CFR 73.2 and 10 CFR 73.22(b)(1). Consistent with the definition of “need to know” as stated in 10 CFR 73.2, the statement must explain:

(i) Specifically why the requestor believes that the information is necessary to enable the requestor to proffer and/or adjudicate a specific contention in this proceeding; ³ and

³ Broad SGI requests under these procedures are unlikely to meet the standard for need to know; furthermore, NRC staff redaction of information from requested documents before their release may be appropriate to comport with this requirement. These procedures do not authorize unrestricted disclosure or less scrutiny of a requestor's need to know than ordinarily would be applied in connection with an already-admitted contention or non-adjudicatory access to SGI.

(ii) The technical competence (demonstrable knowledge, skill, training or education) of the requestor to effectively utilize the requested SGI to provide the basis and specificity for a proffered contention. The technical competence of a potential party or its counsel may be shown by reliance on a qualified expert, consultant, or assistant who satisfies these criteria.

(b) A completed Form SF-85, “Questionnaire for Non-Sensitive Positions,” for each individual who would have access to SGI. The completed Form SF-85 will be used by the Office of Administration to conduct the background check required for access to SGI, as required by 10 CFR part 2, subpart C, and 10 CFR 73.22(b)(2), to determine the requestor's trustworthiness and reliability. For security reasons, Form SF-85 can only be submitted electronically through the National Background Investigation Services eApp system, a secure website that is owned and operated by the Defense Counterintelligence and Security Agency (DCSA). To obtain online access to the form, the requestor should contact the NRC's Office of Administration at 301-415-3710.⁴

⁴ The requestor will be asked to provide the requestor's full name, social security number, date and place of birth, telephone number, and email address. After providing this information, the requestor usually should be able to obtain access to the online form within 1 business day.

(c) A completed Form FD-258 (fingerprint card), signed in original ink, and submitted in accordance with 10 CFR 73.57(d). Copies of Form FD-258 will be provided in the background check request package supplied by the Office of Administration for each individual for whom a background check is being requested. The fingerprint card will be used to satisfy the requirements of 10 CFR part 2, subpart C, 10 CFR 73.22(b)(1), and Section 149 of the Atomic Energy Act of 1954, as amended, which mandates that all persons with access to SGI must be fingerprinted for a Federal Bureau of Investigation identification and criminal history records check.

(d) A check or money order payable in the amount of $403.00 ⁵ to the U.S. Nuclear Regulatory Commission for each individual for whom the request for access has been submitted, and

⁵ This fee is subject to change pursuant to the DCSA's adjustable billing rates.

(e) If the requestor or any individual(s) who will have access to SGI believes they belong to one or more of the categories of individuals that are exempt from the criminal history records check and background check requirements in 10 CFR 73.59, the requestor should also provide a statement identifying which exemption the requestor is invoking and explaining the requestor's basis for believing that the exemption applies. While processing the request, the Office of Administration, Personnel Security Branch, will make a final determination whether the claimed exemption applies. Alternatively, the requestor may contact the Office of Administration for an evaluation of their exemption status prior to submitting their request. Persons who are exempt from the background check are not required to complete the SF-85 or Form FD-258; however, all other requirements for access to SGI, including the need to know, are still applicable.

Note: Copies of documents and materials required by paragraphs C.(3)(b), (c), and (d) of this Order must be sent to the following address: U.S. Nuclear Regulatory Commission, Office of Administration, ATTN: Personnel Security Branch, Mail Stop: TWFN -07D04M, 11555 Rockville Pike, Rockville, MD 20852.

These documents and materials should not be included with the request letter to the Office of the Secretary, but the request letter should state that the forms and fees have been submitted as required.

D. To avoid delays in processing requests for access to SGI, the requestor should review all submitted materials for completeness and accuracy (including legibility) before submitting them to the NRC. The NRC will return incomplete packages to the sender without processing.

E. Based on an evaluation of the information submitted under paragraph C, as applicable, the NRC staff will determine within 10 days of receipt of the request whether:

(1) There is a reasonable basis to believe the petitioner is likely to establish standing to participate in this NRC proceeding; and

(2) The requestor has established a legitimate need to know the SGI requested.

F. If the NRC staff determines that the requestor has satisfied both E.(1) and E.(2), the Office of Administration will then determine, based upon completion of the background check, whether the proposed recipient is trustworthy and reliable, as required for access to SGI by 10 CFR 73.22(b). If the Office of Administration determines that the individual or individuals are trustworthy and reliable, the NRC will promptly notify the requestor in writing. The notification will provide the names of approved individuals as well as the conditions under which the SGI will be provided. These conditions may include, but are not limited to, the signing of a Non-Disclosure Agreement or Affidavit, or Protective Order ⁶ by each individual who will be granted access to SGI.

⁶ Any motion for Protective Order or proposed Non-Disclosure Agreement or Affidavit for SGI must be filed with the presiding officer or the Chief Administrative Judge if the presiding officer has not yet been designated, within 180 days of the deadline for the receipt of the written access request.

G. Release and Storage of SGI. Prior to providing SGI to the requestor, the NRC staff will conduct (as necessary) an inspection to confirm that the recipient's information protection system is sufficient to satisfy the requirements of 10 CFR 73.22. Alternatively, recipients may opt to view SGI at an approved SGI storage location rather than establish their own SGI protection program to meet SGI protection requirements.

H. Filing of Contentions. Any contentions in these proceedings that are based upon the information received as a result of the request made for SGI must be filed by the requestor no later than 25 days after receipt of (or access to) that information. However, if more than 25 days remain between the petitioner's receipt of (or access to) the information and the deadline for filing all other contentions (as established in the notice of hearing or opportunity for hearing), the petitioner may file its SGI contentions by that later deadline.

I. Review of Denials of Access.

(1) If the request for access to SGI is denied by the NRC staff either after a determination on standing and requisite need to know, or after a determination on trustworthiness and reliability, the NRC staff shall immediately notify the requestor in writing, briefly stating the reason or reasons for the denial.

(2) Before the Office of Administration makes an adverse determination regarding the trustworthiness and reliability of the proposed recipient(s) for access to SGI, the Office of Administration, in accordance with 10 CFR 2.336(f)(1)(iii), must provide the proposed recipient(s) any records that were considered in the trustworthiness and reliability determination, including those required to be provided under 10 CFR 73.57(e)(1), so that the proposed recipient(s) have an opportunity to correct or explain the record.

(3) The requestor may challenge the NRC staff's adverse determination with respect to standing or need to know for SGI by filing a challenge within 5 days of receipt of that determination with: (a) the presiding officer designated in this proceeding; (b) if no presiding officer has been appointed, the Chief Administrative Judge, or if this individual is unavailable, another administrative judge, or an Administrative Law Judge with jurisdiction pursuant to 10 CFR 2.318(a); or (c) if another officer has been designated to rule on information access issues, with that officer.

(4) The requestor may challenge the Office of Administration's adverse determination with respect to trustworthiness and reliability for access to SGI by filing a request for review in accordance with 10 CFR 2.336(f)(1)(iv).

(5) Further appeals of decisions under this paragraph must be made pursuant to 10 CFR 2.311.

J. If challenges to the NRC staff determinations are filed, these procedures give way to the normal process for litigating disputes concerning access to information. Interlocutory review by the Commission on orders ruling on such NRC staff determinations (whether granting or denying access) is governed by 10 CFR 2.311.⁷

⁷ Requestors should note that the filing requirements of the NRC's E-Filing Rule (72 FR 49139; August 28, 2007, as amended at 77 FR 46562, August 3, 2012, 78 FR 34247, June 7, 2013) apply to appeals of NRC staff determinations (because they must be served on a presiding officer or the Commission, as applicable), but not to the initial SGI request submitted to the NRC staff under these procedures.

K. The Commission expects that the NRC staff and presiding officers (and any other reviewing officers) will consider and resolve requests for access to SGI, and motions for Protective Orders, in a timely fashion in order to minimize any unnecessary delays in identifying those petitioners who have standing and who have propounded contentions meeting the specificity and basis requirements in 10 CFR part 2. The attachment to this Order summarizes the general target schedule for processing and resolving requests under these procedures.

It is so ordered.

Dated: February 20, 2026.
For the Nuclear Regulatory Commission.
Carrie Safford,
Secretary of the Commission.

Attachment 1—General Target Schedule for Processing and Resolving Requests for Access to Safeguards Information in This Proceeding
Day | Event/activity
0 | Publication of Federal Register notice of opportunity to request a hearing and petition for leave to intervene, including order with instructions for access requests.
10 | Deadline for submitting requests for access to Safeguards Information (SGI) with information: supporting the standing of a potential party identified by name and address; describing the need for the information in order for the potential party to participate meaningfully in an adjudicatory proceeding; demonstrating that access should be granted (e.g., showing technical competence for access to SGI); and including the application fee for the fingerprint/background check.
60 | Deadline for submitting petition for intervention containing: (i) Demonstration of standing; (ii) all contentions whose formulation does not require access to SGI (+25 Answers to petition for intervention; +7 requestor/petitioner reply).
20 | U.S. Nuclear Regulatory Commission (NRC) staff informs the requestor of the staff's determination whether the request for access provides a reasonable basis to believe standing can be established and shows need to know. If NRC staff makes the finding of need to know and likelihood of standing, NRC staff begins background check (including fingerprinting for a criminal history records check), information processing (i.e., preparation of redactions or review of redacted documents), and readiness inspections.
25 | If NRC staff finds no “need to know” or no likelihood of standing, the deadline for requestor/petitioner to file a motion seeking a ruling to reverse the NRC staff's denial of access; NRC staff files copy of access determination with the presiding officer (or Chief Administrative Judge or other designated officer, as appropriate).
30 | Deadline for NRC staff's reply to motions to reverse NRC staff determination(s).
190 | (Receipt +180) If NRC staff finds standing, need to know, and trustworthiness and reliability, deadline for NRC staff to file motion for Protective Order and proposed Non-Disclosure Agreement or Affidavit (or to make a determination that the proposed recipient of SGI is not trustworthy or reliable). Note: Before the Office of Administration makes an adverse determination regarding access to SGI, the proposed recipient must be provided an opportunity to correct or explain information.
205 | Deadline for petitioner to seek reversal of a final adverse NRC staff trustworthiness or reliability determination under 10 CFR 2.336(f)(1)(iv).
A | If access is granted: Issuance of a decision by a presiding officer or other designated officer on motion for Protective Order for access to SGI (including schedule for providing access and submission of contentions) or decision reversing a final adverse determination by the NRC staff.
A + 3 | Deadline for filing executed Non-Disclosure Agreement or Affidavits. Access provided to SGI consistent with decision issuing the Protective Order.
A + 28 | Deadline for submission of contentions whose development depends upon access to SGI. However, if more than 25 days remain between the petitioner's receipt of (or access to) the information and the deadline for filing all other contentions (as established in the notice of hearing or opportunity for hearing), the petitioner may file its SGI contentions by that later deadline.
A + 53 | (Contention receipt +25) Answers to contentions whose development depends upon access to SGI.
A + 60 | (Answer receipt +7) Petitioner/Intervenor reply to answers.
>A + 60 | Decision on contention admission.

[FR Doc. 2026-03626 Filed 2-23-26; 8:45 am]

BILLING CODE 7590-01-P